DEPARTMENT OF AGRICULTURE

Office of the Secretary

7 CFR Part 2

Revision of Delegations of Authority; Correction

AGENCY: Office of the Secretary, USDA.

ACTION: Final rule; correction.

SUMMARY: The Department of Agriculture published in the Federal Register of February 4, 2000, a document of revising 7 CFR Part 2, Revision of Delegations of Authority. This document corrects the amendatory instructions in that document. The revisions to the delegations of authority were made to reflect passage of the Agricultural Research, Extension, and Education Reform Act of 1998.

EFFECTIVE DATE: Effective February 4, 2000.

FOR FURTHER INFORMATION CONTACT: Philip Schwab, Science Advisor and Legislation Affairs, Cooperative State Research, Education, and Extension Service, USDA, Room 305-A, Jamie L. Whitten Federal Bldg., Washington, DC 20250, telephone 202-720-4423.

SUPPLEMENTARY INFORMATION: The Department of Agriculture published in the Federal Register of February 4, 2000, (65 FR 5414) a revision to the delegations of authority found at 7 CFR Part 2. Paragraph number (a)(1)(xx) was inadvertently omitted from amendatory instruction 2.d. This correction revises amendatory instruction 2.d. to include that paragraph number.

In FR Doc. 00-2396 published on February 4, 2000 (65 FR 5414) made the following correction. On page 5414, in the third column, amendatory instruction 2.d. to 2.21 is corrected to read as follows:

§ 2.21 [Corrected]

2. * * *

d. Revise paragraphs (a)(1)(x), (a)(1)(xx), (a)(1)(xliv), (a)(1)(l), (a)(1)(liii), (a)(1)(lvii), (a)(1)(lix), (a)(1)(lxxix), and (b)(1)(i) and add paragraphs (a)(1)(liv), (a)(1)(lxxx), (a)(1)(lxxxi), and (a)(1)(lxxxvii) to read as follows:

Done at Washington, DC on this 11th day of May, 2000.
Dan Glickman,
Secretary of Agriculture.

[FR Doc. 00-12439 Filed 5-16-00; 8:45 am]

BILLING CODE 3410-01-M